DEPARTMENT OF AGRICULTURE

Food Safety and Inspection Service

[Docket No. 03-046N]

Codex Alimentarius Commission: Sixth Session of the Codex Committee on Milk and Milk Products

AGENCY: Food Safety and Inspection, Service, USDA.

ACTION: Notice of public meeting and request for comments.

SUMMARY: The Office of the Under Secretary for Food Safety, and the Agricultural Marketing Service (AMS), of the U.S. Department of Agriculture (USDA), and the Food and Drug Administration (FDA), of the Department of Health and Human Services (DHHS), are sponsoring a public meeting on April 13, 2004, to review the technical content of the agenda item documents and receive comments on all issues coming before the Sixth Session of the Codex Committee on Milk and Milk Products, which will be held in Auckland, New Zealand, April 26-30, 2004.

DATES: The public meeting is scheduled for Tuesday, April 13, 2004, from 9 a.m. to 12 noon.

ADDRESSES: The public meeting will be held in Room 3501, South Agriculture Building, U.S. Department of Agriculture, 14th Street and Independence Avenue SW., Washington, DC 20250.

To receive copies of documents relevant to this notice, contact the Food Safety and Inspection Service (FSIS) Docket Room, U.S. Department of Agriculture, FSIS, Room 102, Cotton Annex, 300 12th Street SW., Washington, DC 20250-3700. The documents will also become accessible via the World Wide Web at the following address: http://www.fao.org/codexalimentarius.net. Send comments, in triplicate, to the FSIS Docket Room and reference Docket #03-046N. All comments submitted in response to this notice will be available for public inspection in the FSIS Docket Room between 8:30 a.m. and 4:30 p.m., Monday through Friday.

FOR FURTHER INFORMATION CONTACT: Syed Amjad Ali, International Issues Analyst; Telephone: (202) 205-7760; Fax: (202) 720-3157. Persons requiring a sign language interpreter or other special accommodations should notify Mr. Ali at the above number.

SUPPLEMENTARY INFORMATION:

Background

Codex was established in 1962 by two United Nations organizations, the Food and Agriculture Organization and the World Health Organization. Codex is the major international organization for encouraging fair international trade in food and protecting the health and economic interests of consumers. Through adoption of food standards, codes of practice and other guidelines developed by its committees, and by promoting their adoption and implementation by governments, Codex seeks to ensure that the world's food supply is sound, wholesome, free from adulteration and correctly labeled.

The Codex Committee on Milk and Milk Products was established to elaborate codes and standards for Milk and Milk Products. The Government of New Zealand hosts this committee and will chair the committee meeting.

Issues To Be Discussed at the Public Meeting

The following specific issues will be discussed during the public meeting:

1. Matters referred by the Codex Alimentarius Commission and other Codex committees.

2. Review of the Proposed Draft and Draft Revised Standards: Dairy Spreads; Processed Cheese; Individual Cheeses; and Whey Cheeses.

3. Proposed Standards for Products in Which Milkfat is Substituted for by Vegetable Fat.

4. Model Export Certificate for Milk Products.

5. Review of Proposals for New Standards for “Parmesan”, Fermented Milk Drinks/Products, “Cheese Specialities”, and a proposal to revise the Codex Standard for Extra Hard Grating Cheese.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS web site at http://www.fsis.usda.gov/oa/update/update.htm. Click on the “Subscribe to the Constituent Update Listserv” link, then fill out and submit the form.

Done at Washington, DC, on January 29, 2004.
F. Edward Scarbrough,
U.S. Manager for Codex Alimentarius.

[FR Doc. 04-2134 Filed 2-2-04; 8:45 am]

BILLING CODE 3410-DM-P